FEDERAL COMMUNICATIONS COMMISSION

Notice of Public Information Collection(s) Being Reviewed by the Federal Communications Commission, Comments Requested

June 12, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 24, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 03060-0820.

Title: Transfer of Control.

Form No.: N/A.

Type of Review: Revision of currently approved collection.

Respondents: Business, Individuals, and Not-for-profit institutions.

Number of Respondents: 4.

Estimated Time Per Response: 1 hour.

Frequency of Response: On occasion.

Total Annual Burden: 4 hours.

Cost to Respondents: $0.

Needs and Uses: This information will be used to determine that the transaction is complete, accurate, and complies with the Commission's rules. The information will also be used to update the Commission's records concerning ownership and to correct names and addresses of licensees.

OMB Approval No.: 3060-0660.

Title: Section 21.937 Negotiated Interference Protection.

Form No.: N/A

Type of Review: Extension of currently approved collection.

Respondents: Businesses or other for-profit.

Number of Respondents: 75.

Estimated Hours Per Response: 30 hours (6 hours respondent, 8 hours contract attorney, 16 hours consulting engineer).

Frequency of Response: On occasion.

Cost to Respondents: $300,000.

Estimated Total Annual Burden: 450 hours.

Needs and Uses: Under Section 21.937, the level of acceptable electromagnetic interference that occurs at or within the boundaries of an adjacent Basic Trading Area (BTA), partitioned service area or an incumbent MDS station's protected service area, can be negotiated and established with the written consent of the affected licensee. Thus, Section 21.937 permits negotiated interference agreements among these parties. These written agreements must be submitted to the Commission within thirty days of ratification. (These agreements are often included with the submission of the FCC 304 attached as Exhibits.) These agreements allow the parties to establish acceptable levels of interference based on the design of their stations and service needs. These agreements are the most effective means of regulating interference and they provide flexibility in designing MDS systems.

Federal Communications Commission.
Magalie Roman Salas,
Secretary.

[FR Doc. 01-15903 Filed 6-22-01; 8:45 am]

BILLING CODE 6712-01-P